DEPARTMENT OF THE INTERIOR

Bureau of Land Management

[LLES930000.L51040000.FI0000. 18X]

Notice of Proposed Reinstatement of Terminated Oil and Gas Leases in Ohio

AGENCY: Bureau of Land Management, Interior.

ACTION: Notice of reinstatement.

SUMMARY: As provided for under the Mineral Leasing Act of 1920, as amended, the Bureau of Land Management (BLM) received a petition for reinstatement of competitive oil and gas leases OHES058186, OHES058187, OHES058188, OHES058191, OHES058198, OHES058199, OHES058200, OHES058203, OHES058204, OHES058205, and OHES058213 from Eclipse Resources I, LP for land in Monroe County, Ohio. The lessee filed the petition on time, along with all rentals due since the leases terminated under the law. No leases affecting these lands were issued before the petition was filed. The BLM proposes to reinstate the leases.

FOR FURTHER INFORMATION CONTACT: Kathy Gunderman, Branch Chief for Fluid Minerals Adjudication, Bureau of Land Management, Eastern States State Office, 20 M Street SE, Suite 950, Washington, DC 20003; phone 202-912-7721; email mgunderman@blm.gov.

Persons who use a telecommunications device for the deaf may call the Federal Relay Service (FRS) at 1-800-877-8339 to contact Kathy Gunderman during normal business hours. The FRS is available 24 hours a day, 7 days a week, to leave a message or question with the above individual. A reply will be sent during normal business hours.

SUPPLEMENTARY INFORMATION: The lessee agreed to the amended lease terms for rentals and royalties at rates of $10 per acre, or fraction thereof, per year and 16⅔ percent, respectively. The lessee has paid the required $500 administrative fee and the $159 cost of publishing this notice for each lease. The lessee met the requirements for reinstatement of the leases per Sec. 31(d) and (e) of the Mineral Leasing Act of 1920 (30 U.S.C. 188). The BLM proposes to reinstate the leases effective February 1, 2018, under the original terms and conditions of the leases, and the increased rental and royalty rates cited above.

Authority: 30 U.S.C. 188 (e)(4) and 43 CFR 3108.2-3(b)(2)(v).

Mitchell Leverette,
Acting State Director, Eastern States.

[FR Doc. 2018-20504 Filed 9-19-18; 8:45 am]

BILLING CODE 4310-GJ-P